DEPARTMENT OF JUSTICE

National Institute of Corrections

Advisory Board Meeting

Time and Date: 1 p.m. to 4:30 p.m. on Monday, June 20, 2005, 8 a.m. to 2:30 p.m. on Tuesday, June 21, 2005.

Place: The Radisson Hotel, Old Town Alexandria, 901 North Fairfax Street, Alexandria, Virginia 223147.

Status: Open.

Matters to be Considered: Mental Health Reports—PBS Program; Faith—Based Hearings; Programs Prison Rape Elimination Act (PREA) Briefing; Quarterly Report by Office of Justice Programs.

For Further Information Contact: Larry Solomon, Deputy Director, (202) 307-3106, ext. 44254.

Morris L. Thigpen,
Director.

[FR Doc. 05-10204 Filed 5-20-05; 8:45 am]

BILLING CODE 4410-36-M